DEPARTMENT OF ENERGY

Federal Energy Regulatory Commission

[Docket No. CP07-383-000]

Rockies Express Pipeline LLC; Notice of Request Under Blanket Authorization

May 31, 2007.

Take notice that on May 17, 2007, Rockies Express Pipeline LLC (Rockies Express), Post Office Box 281304, Lakewood, Colorado 80228-8304, filed in Docket No. CP07-383-000, an application pursuant to Sections 157.205 and 157.208 of the Commission's Regulations under the Natural Gas Act (NGA) as amended, to construct and operate certain gas supply facilities in Sweetwater County, Wyoming, under Rockies Express' blanket certificate issued in Docket Nos. CP04-413-000, CP04-414-000, and CP04-415-000, all as more fully set forth in the application which is on file with the Commission and open to the public for inspection.

Rockies Express proposes to construct and operate gas supply facilities consisting of: (1) Approximately 2.60 miles of 16-inch diameter lateral pipeline extending from an interconnection with the existing gathering facilities of Lost Creek Gathering Company, L.L.C., to Rockies Express' mainline; (2) measurement facilities; and (3) compression. The proposed facilities would transport, compress, and deliver into Rockies Express' mainline up to 150,000 Dekatherm (Dth) equivalent of processed natural gas. Rockies Express estimates that it would cost $15, 156,027 to construct the proposed Sweetwater County facilities. Rockies Express would finance the proposed construction with internally generated funds.

Any questions concerning this application may be directed to Skip George, Manager of Regulatory, Rockies Express Pipeline LLC, P.O. Box 281304, Lakewood, Colorado 80228-8304, or telephone 303-914-4969.

This filing is available for review at the Commission or may be viewed on the Commission's Web site at http://www.ferc.gov, using the “eLibrary” link. Enter the docket number excluding the last three digits in the docket number filed to access the document. For assistance, please contact FERC Online Support at FERC OnlineSupport@ferc.gov or call toll-free at (866) 206-3676, or, for TTY, contact (202) 502-8659. Comments, protests and interventions may be filed electronically via the Internet in lieu of paper. See, 18 CFR 385.2001(a)(1)(iii) and the instructions on the Commission's Web site under the “e-Filing” link. The Commission strongly encourages intervenors to file electronically.

Any person or the Commission's staff may, within 60 days after issuance of the instant notice by the Commission, file pursuant to Rule 214 of the Commission's Procedural Rules (18 CFR 385.214) a motion to intervene or notice of intervention and pursuant to Section 157.205 of the regulations under the NGA (18 CFR 157.205), a protest to the request. If no protest is filed within the time allowed therefore, the proposed activity shall be deemed to be authorized effective the day after the time allowed for filing a protest. If a protest is filed and not withdrawn within 30 days after the allowed time for filing a protest, the instant request shall be treated as an application for authorization pursuant to Section 7 of the NGA.

Kimberly D. Bose,
Secretary.

[FR Doc. E7-10836 Filed 6-5-07; 8:45 am]

BILLING CODE 6717-01-P